DEPARTMENT OF LABOR

Employment and Training Administration

[TA-W-50,723]

The Rival Company Sweet Springs, MO; Notice of Termination of Investigation

Pursuant to section 221 of the Trade Act of 1974, as amended, an investigation was initiated on January 29, 2003 in response to a worker petition filed on behalf of workers at The Rival Company, Sweet Springs, Missouri.

The petitioning group of workers is covered by an earlier petition filed on January 29, 2003 (TA-W-50,280) that is the subject of an ongoing investigation for which a determination has not yet been issued. Further investigation in this case would duplicate efforts and serve no purpose; therefore the investigation under this petition has been terminated.

Signed at Washington, DC, this 27th day of February 2003.
Richard Church,
Certifying Officer, Division of Trade Adjustment Assistance.

[FR Doc. 03-6569 Filed 3-18-03; 8:45 am]

BILLING CODE 4510-30-P